FEDERAL COMMUNICATIONS COMMISSION

Radio Broadcasting Services; AM or FM Proposals To Change The Community of License

AGENCY: Federal Communications Commission.

ACTION: Notice.

DATES: The agency must receive comments on or before October 29, 2019.

ADDRESSES: Federal Communications Commission, 445 12th Street SW, Washington, DC 20554.

FOR FURTHER INFORMATION CONTACT: Rolanda F. Smith, 202-418-2054.

SUPPLEMENTARY INFORMATION: The following applicants filed AM or FM proposals to change the community of license: GOIS BROADCASTING BOSTON LLC; WLLH(AM), Fac. ID No. 24971, Channel 1400 kHz, To LAWRENCE, MA, From LOWELL, MA, File No. BP-20190620AAC; HOUR GROUP BROADCASTING, INC., WLTG(AM), Fac. ID No. 27694, Channel 1430 kHz, To UPPER GRAND LAGOON, FL, From PANAMA CITY, FL, File No. BP-20190613AAF; HANCOCK COUNTY BROADCASTING, LLC, WCAZ(AM), Fac. ID No. 60017, Channel 1510 kHz, To CARTHAGE, IL, From MACOMB, IL, File No. BP-20190705AAE; SOLID ROCK FOUNDATION, KBDW(FM), Fac. ID No. 176883, Channel 219A, To STINNETT, TX, From LEFORS, TX, File No. BPED-20190617AAH; POINT FIVE LLC, KWIE(FM), Fac. ID No. 191522, Channel 267A, To HINKLEY, CA, From BARSTOW, CA, File No. BPH-20190701AAZ; ROUTE 66 MEDIA, LLC, KHNZ(FM), Fac. ID No. 198807, Channel 267A, To LEFORS, TX, From MEMPHIS, TX, File No. BPH-20190617AAJ; MEKADDESH GROUP CORPORATION, NEW(FM), Fac. ID No. 198750, Channel 286C2, To RANKIN, TX, From SANDERSON, TX, File No. BMPH-20190725AAY; and ENTRAVISION HOLDINGS, LLC, KVVA-FM, Fac. ID No. 1331, Channel 296C3, To SUN LAKES, AZ, From APACHE JUNCTION, AZ, File No. BPH-20190723AAO. The full text of these applications is available for inspection and copying during normal business hours in the Commission's Reference Center, 445 12th Street SW, Washington, DC 20554 or electronically via the Media Bureau's Consolidated Data Base System, http://licensing.fcc.gov/prod/cdbs/pubacc/prod/app_sear.htm.

Federal Communications Commission.
Nazifa Sawez,
Assistant Chief, Audio Division, Media Bureau.

[FR Doc. 2019-18793 Filed 8-29-19; 8:45 am]

BILLING CODE 6712-01-P